DEPARTMENT OF COMMERCE

National Oceanic and Atmospheric Administration

[Docket Number: 060411100-6100-01]

Science Advisory Board; The Preliminary Report of the External Review of NOAA's Ecosystem Research and Science Enterprise Panel

AGENCY: Office of Oceanic and Atmospheric Research (OAR), National Oceanic and Atmospheric Administration (NOAA), Department of Commerce (DOC).

ACTION: Notice of availability and request for public comment.

SUMMARY: NOAA Research (OAR) publishes this notice on behalf of the NOAA Science Advisory Board (SAB) to announce the availability of the preliminary report of the External Review of NOAA's Ecosystem Research and Science Enterprise panel (here called the External Ecosystem Task Team) for public comment. The preliminary report of the External Ecosystem Task Team is compiled pursuant to the request from the Under Secretary of Commerce for Oceans and Atmosphere to the SAB to conduct an external review of NOAA's ecosystem research and science enterprise.

DATES: Comments on this draft must be submitted by the close of business May 22, 2006.

ADDRESSES: The Preliminary Report of the External Ecosystem Task Team will be available on the NOAA Science Advisory Board Web site at http://www.sab.noaa.gov/reports/prelim_eett0306.pdf.

The public is encouraged to submit comments electronically to noaa.sab.comments@noaa.gov. For commenters who do not have access to a computer, comments may be submitted in writing to: NOAA Science Advisory Board (SAB) c/o Dr. Cynthia Decker, Silver Spring Metro Center Bldg. 3, Room 11117, 1315 East-West Highway, Silver Spring, Maryland 20910.

FOR FURTHER INFORMATION CONTACT: Dr. Cynthia Decker, Executive Director, Science Advisory Board, NOAA, Rm. 11117, 1315 East-West Highway, Silver Spring, Maryland 20910. (Phone: 301-713-9121, Fax: 301-713-3515, E-mail: Cynthia.Decker@noaa.gov) during normal business hours of 9 a.m. to 5 p.m. Eastern Time, Monday through Friday, or visit the NOAA SAB Web site at http://www.sab.noaa.gov.

SUPPLEMENTARY INFORMATION: The preliminary report will be posted on the SAB Web site. The SAB is seeking public comment from all interested parties. This preliminary report is being issued for comment only and is not intended for interim use. Suggested changes will be incorporated where appropriate.

The preliminary report of the External Ecosystem Task Team is compiled pursuant to the request from the Under Secretary of Commerce for Oceans and Atmosphere to the SAB to conduct an external review of NOAA's ecosystem research and science enterprise. This review addresses questions and drafts recommendations regarding the appropriateness of the mix of scientific activities conducted and/or sponsored by NOAA to its mission and on the organization of NOAA ecosystem research and science enterprise. The SAB is chartered under the Federal Advisory Committee Act and is the only Federal Advisory Committee with the responsibility to advise the Under Secretary on long- and short-term strategies for research, education, and application of science to resource management and environmental assessment and prediction.

NOAA welcomes all comments on the content of the report. We also request comments on any inconsistencies perceived within the report, and possible omissions of important topics or issues. For any shortcoming noted within the draft report, please propose specific remedies.

Please follow these instructions for preparing and submitting a review. Using the format guidance described below will facilitate the processing of reviewer comments and assure that all comments are appropriately considered. Please provide background information about yourself on the first page of your comments: your name(s), organization(s), area(s) of expertise, mailing address(es), telephone and fax numbers, email address(es). Overview comments on the section should follow your background information and should be numbered. Comments that are specific to particular pages, paragraphs or lines of the section should follow any overview comments and should identify the page numbers to which they apply. Please number all pages and place your name at the top of each page.

Dated: April 13, 2006.
Stephen B. Brandt,
Acting Deputy Assistant Administrator, Office of Oceanic and Atmospheric Research, National Oceanic and Atmospheric Administration.

[FR Doc. E6-5904 Filed 4-19-06; 8:45 am]

BILLING CODE 3510-22-P